DEPARTMENT OF HEALTH AND HUMAN SERVICES

National Institutes of Health

Proposed Collection; Comment Request; Request for Clearance To Evaluate the National Institutes of Health (NIH) Small Business Innovation Research (SBIR) Program

SUMMARY: In compliance with the requirement of Section 3506(c)(2)(A) of the Paperwork Reduction Act of 1995, for opportunity for public comment on proposed data collection projects, the National Institutes of Health (NIH) will publish periodic summaries of proposed projects to be submitted to the Office of Management and Budget (OMB) for review and approval.

Proposed Collection

Title: The National Survey to Evaluate the NIH SBIR Program. Type of Information Collection Request: NEW. Need and Use of the Information Collection: The NIH, Office of Extramural Research, Office of Extramural Programs seeks to obtain OMB's approval to conduct a survey to evaluate the Small Business Innovation Research (SBIR) Program. The SBIR Program, established by Congress in 1982 (Public Law 97-219) and recently reauthorized through September 30, 2008 (P.L. 106-554), provides research support to small businesses for innovative technology. Primary objectives are to assess the extent to which SBIR program goals are being met, particularly those dealing with the commercialization of research products, processes or services and the uncovering of new knowledge that will lead to better health for everyone. With survey information, NIH is enabled to accurately assess the results of its large financial investment in funding innovative research conducted by small business concerns. Findings will help to (1) understand if innovative projects supported through the NIH SBIR Program are being commercialized, and if so, to classify the types of products, processes or services that are derived through SBIR funding; (2) determine if other measures of success defined within the NIH mission are being achieved; and (3) enhance NIH's administration of the SBIR Program and the support that it provides to small business concerns. Overall, the NIH will use the survey results to assess the outcomes from NIH-supported SBIR awards. OD will collect information from SBIR awardees using an Internet survey. The online survey will be implemented using Secure Socket Layer (SSL) encryption technology and password access. OD will use first-class mail and email messages to advise awardees that they have been selected to participate in the survey. Frequency of Reponse: One time survey. Affected Public: Small business concerns supported by NIH through the SBIR Program. Type of Respondents: For-profit small business concerns that have received NIH SBIR awards. The annual reporting burden is as follows: Estimated Number of Respondents: 1,000; Estimated Number of Responses Per Respondent: 1; Averaged Burden Hours Per Response: .5; and Estimated Total Annual Burden Hours Requested: 500. The annualized cost to the public is estimated at $37,500. There are no Capital Costs, Operating Costs and/or Maintenance Costs to report.

Requests for Comments

Written comments and/or suggestions from the public and affected agencies are invited on one or more of the following points: (1) Whether the proposed collection of information is necessary for the proper performance of the functions of the agency, including whether the information shall have practical utility; (2) The accuracy of the agency's estimate of the burden (including hours and cost) of the proposed information collection; (3) Ways to enhance the quality, utility, and clarity of the information to be collected; and (4) Ways to minimize the burden of the collection of information on respondents, including through the use of appropriate automated, electronic, mechanical, or other technological collection techniques or other forms of information technology.

FOR FURTHER INFORMATION CONTACT: To request more information on the proposed project or to obtain a copy of the data collection plans and instruments, contact: Ms. Jo Anne Goodnight, NIH SBIR/STTR Program Coordinator, Rockledge II Bldg., Room 6186, 6701 Rockledge Drive, Bethesda, MD 20892-7910, or call non-toll-free number (301) 435-2688 or email your request, including your address, to: jg128w@nih.gov.

COMMENTS DUE DATE: Comments regarding this information collection are best assured of having their full effect if received on or before August 13, 2001.

Dated: June 7, 2001.
Jo Anne Goodnight,
Coordinator, Small Business Innovation Research/Small Business Technology Transfer Program, Office of Extramural Programs, Office of Extramural Research, National Institutes of Health.

[FR Doc. 01-14972 Filed 6-13-01; 8:45 am]

BILLING CODE 4140-01-M